DEPARTMENT OF TRANSPORTATION

Federal Aviation Administration

14 CFR Part 39

[Docket No. FAA-2016-6616; Directorate Identifier 2016-CE-004-AD]

RIN 2120-AA64

Airworthiness Directives; Rosemount Aerospace, Inc. Pitot Probes

AGENCY: Federal Aviation Administration (FAA), DOT.

ACTION: Notice of proposed rulemaking (NPRM).

SUMMARY: We propose to adopt a new airworthiness directive (AD) for Rosemount Aerospace Model 851AK pitot probes that were repaired by CSI Aerospace, Inc. that are installed on airplanes. This proposed AD was prompted by a report that certain pitot probes are indicating the wrong airspeed during flight in icing conditions. This proposed AD would require inspecting the airplane to determine the number of affected pitot probes installed and replacing the affected pitot probes. We are proposing this AD to correct the unsafe condition on these products.

DATES: We must receive comments on this proposed AD by June 27, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2016-6616; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jonathan Kim, Aerospace Engineer, Fort Worth Airplane Certification Office (ACO), FAA, 10101 Hillwood Parkway, Fort Worth, Texas 76177-1524; telephone: (817) 222-5131; fax: (817) 222-5245; email: jonathan.kim@faa.gov.

SUPPLEMENTARY INFORMATION:

Comments Invited

We invite you to send any written relevant data, views, or arguments about this proposal. Send your comments to an address listed under the ADDRESSES section. Include “Docket No. FAA-2016-6616; Directorate Identifier 2016-CE-004-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report about erroneous airspeed data being transmitted from multiple Rosemount Aerospace Model 851AK pitot probes on a Boeing Aircraft Company Model B717 airplane when flying in icing conditions.

Investigation revealed that the pitot probes had been repaired by CSI Aerospace, Inc. between January 2013 and July 2014. During the investigation, it was determined that the repaired pitot probes had constricted openings, which was caused by migration of the silver brazing material. Further investigation revealed that the brazing material migrated because the heater was not properly located during the repair process. This condition, if not corrected, could result in incorrect airspeed indications during icing conditions, which could lead to loss of control. Due to design redundancy, this is only applicable if more than one deficient probe is installed.

FAA's Determination

We are proposing this AD because we evaluated all the relevant information and determined the unsafe condition described previously is likely to exist or develop in other products of the same type design.

Proposed AD Requirements

This proposed AD would require inspecting the airplane to determine the number of affected pitot probes installed and replacing the affected pitot probes if more than one is installed.

Costs of Compliance

We estimate that this proposed AD affects 679 products installed on airplanes of U.S. registry.

We estimate the following costs to comply with this proposed AD:

Estimated Costs
Action | Labor cost | Parts cost | Cost per product | Cost on U.S. operators
Inspect to determine the number of defective pitot probes installed on the airplane | 1 work-hour × $85 per hour = $85 | N/A | N/A | $57,715

We estimate the following costs to do any necessary replacements that would be required based on the results of the proposed inspection. We have no way of determining the number of airplanes that might need these replacements:

On-Condition Costs
Action | Labor cost | Parts cost | Cost per product
Replace defective pitot probe | 1 work-hour × $85 per hour = $85 | $6,750 | $6,835

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Rosemount Aerospace, Inc.: Docket No. FAA-2016-6616; Directorate Identifier 2016-CE-004-AD.

(a) Comments Due Date

We must receive comments by June 27, 2016.

(b) Affected ADs

None.

(c) Applicability

This AD applies to Rosemount Aerospace, Inc. Model 851AK pitot probes that were repaired by CSI Aerospace Inc. and have a serial number listed in paragraph (c)(1) of this AD that are known to be installed on but not limited to the airplanes listed in paragraph (c)(2) of this AD.

(1) 53257, 61568, 68168, 69913, 69953, 71802, 71820, 73010, 73406, 75549, 75555, 80491, 83809, 84200, 84495, 84911, 84922, 85317, 85731, 87225, 87234, 87235, 87241, 87272, 87512, 87551, 87909, 88912, 90538, 91606, 93291, 93292, 93293, 93305, 93941, 93948, 93960, 94258, 94304, 94559, 94814, 94819, 95150, 95849, 97405, 99498, 99509, 100105, 100111, 100127, 100313, 100741, 101374, 101500, 102054, 102309, 102502, 104604, 106134, 106139, 106381, 106905, 107251, 107406, 107450, 107887, 108174, 108302, 108858, 108859, 108967, 108970, 109119, 109122, 109124, 109128, 109393, 109394, 109467, 109474, 109488, 109521, 109524, 109537, 109577, 109795, 109798, 109799, 109810, 109946, 109954, 109958, 109962, 109996, 110323, 110324, 110327, 110338, 110611, 110626, 110880, 110895, 110956, 111061, 111066, 111315, 111320, 111432, 111561, 111571, 111578, 111802, 111807, 112229, 112280, 112497, 112646, 112657, 112677, 112779, 112781, 112783, 112979, 112993, 113025, 113026, 113129, 113151, 113382, 113721, 113758, 113837, 113838, 113843, 113845, 113920, 113934, 114130, 114147, 114152, 114157, 114223, 114376, 114572, 114813, 114869, 114959, 114962A, 114966, 115428, 115713, 116249, 116253, 116255, 116271, 116424, 116557, 116734, 116792, 116994, 117022, 117144, 117310, 117412, 117414, 117426, 117427, 117428, 117587, 117961, 118111, 118234, 118331, 118637, 118639, 118770, 118938, 119115, 119281, 119290, 119414, 119441, 119593, 119694, 119695, 119737, 119852, 120456, 120461, 120728, 120823, 120825, 120826, 120829, 121040, 121041, 121110, 121116, 121145, 121172, 121320, 121322, 121524, 121834, 121852, 122662, 122934, 122935, 123286, 123289, 123330, 123745, 123746, 123753, 123767, 124144, 124385, 124390, 124396, 124890, 125016, 125021, 125077, 125163, 125174, 126785, 127449, 127894, 127899, 128302, 128307, 129503, 130371, 130377, 130688, 131422, 131423, 131752, 132065, 132067, 132297, 132825, 133103, 133161, 133220, 133291, 133310, 133394, 133396, 133512, 133521, 134102, 134403, 134535, 134537, 134639, 134675, 134681, 135136, 135234, 135246, 135250, 135554, 135561, 135568, 135735, 135743, 136075, 136208, 137049, 137398, 137543, 137544, 137642, 139076, 139081, 139433, 139444, 139691, 139694, 139759, 139763, 139971, 139976, 140188, 140565, 140643, 140649, 140650, 141161, 141356, 141362, 141497, 141501, 141605, 141607, 142426, 142765, 142774, 142775, 143405, 143409, 143411, 143418, 143816, 143818, 143988, 143992, 143999, 144591, 144814, 144816, 144976, 146116, 146835, 147421, 148524, 148765, 148777, 149460, 149464, 149510, 149941, 150206, 150211, 150212, 150214, 150542, 150725, 151086, 151095, 151493, 152097, 152819, 152922, 152969, 152974, 152981, 153232, 153453, 153625, 153628, 153635, 153641, 153956, 153962, 153966, 153984, 154007, 154156, 154704, 154721, 154738, 154741, 155003, 155042, 155045, 155238, 155278, 155517, 156022, 156025, 156222, 156526, 156529, 156672, 157023, 157137, 157143, 158393, 158790, 158797, 159033, 159036, 159413, 159440, 159891, 160000, 160002, 160456, 160459, 160463, 160466, 160468, 161137, 161139, 161159, 161177, 161184, 161185, 161363, 161364, 161366, 162376, 162384, 162674, 162682, 162685, 162688, 163176, 163178, 163181, 163557, 163559, 163602, 164279, 164746, 164750, 164907, 164908, 165135, 165259, 165459, 165805, 166235, 166324, 166325, 166326, 166331, 166477, 166481, 166608, 166671, 166673, 166892, 167030, 167035, 167037, 167182, 167341, 167556, 167559, 167705, 167707, 167709, 167763, 167764, 167765, 167766, 167811, 195627, 195628, 195706, 195707, 195710, 195796, 195833, 195876, 196041, 196042, 196045, 196137, 196234, 196397, 196400, 196401, 196403, 196498, 196500, 196761, 197097, 197140, 197143, 197238, 197657, 197874, 198528, 198687, 198775, 198788, 198872, 199034, 199042, 199187, 199441, 199613, 199616, 199669, 200293, 200324, 200534, 200535, 200538, 200737, 200738, 200793, 200830, 200834, 200872, 201576, 201685, 201733, 201892, 201893, 201964, 202053, 202305, 202306, 202469, 202471, 202472, 202596, 202625, 202633, 202760, 202879, 202901, 203010, 203016, 204629, 204665, 204714, 204820, 204821, 204822, 205249, 205253, 205329, 205335, 205526, 205527, 205529, 205700, 205882, 205967, 206273, 206406, 206436, 206441, 206646, 207019, 207020, 207021, 207364, 207369, 207683, 207684, 207837, 207849, 207850, 208206, 208381, 208394, 208396, 208543, 209148, 209698, 209704, 209707, 212176, 212525, 212697, 212700, 213952, 213953, 214085, 214089, 214144, 214795, 214803, 215392, 215476, 216214, 216509, 216951, 216955, 216957, 217368, 217369, 217382, 217441, 217708, 217805, 218112, 218610, 218613, 218757, 218761, 218958, 218965, 218967, 218970, 218976, 219226, 219228, 219233, 219236, 219411, 219418, 219832, 219840, 220990, 220991, 221197, 221286, 221635, 224540, 224700, 224701, 224704, 224707, 224876, 225257, 225262, 225586, 225910, 225974, 226133, 226136, 226465, 226466, 226467, 227159, 227174, 227836, 227837, 229277, 230190, 230191, 230192, 230193, 231082, 232015, 232681, 232684, 234534, 235621, 235628, 238097, 239755, 239760, 239956, 242109, 242998, 243350, 243351, 245230, 246792, 246851, 247007, 247302, 250747, 256327, 258614, 258861, 258865, 260508, 262743, 262744, 263643, 263644, 263645, 263651, 263700, 264117, 264119, 264122, 264123, 264125, 264193, 264738, 265208, 265210, 265655, 265656, 265657, 265658, 268055, 268562, 268564, 268565, 268566, 272372, 272592, 275276, 275663, 280433, 280435, and 296902.

(2) DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, DC-9-51, DC-9-81 (MD-81), DC-9-82 (MD-82), DC-9-83 (MD-83), DC-9-87 (MD-87), MD-88, MD-90-30, and 717-200.

(d) Subject

Joint Aircraft System Component (JASC)/Air Transport Association (ATA) of America Code 3414, Airspeed/Mach Indicator.

(e) Unsafe Condition

This AD was prompted by a report that the pitot probes are indicating the wrong airspeed during flight in icing conditions. We are issuing this AD to correct the unsafe condition on these products.

(f) Compliance

Do the actions in paragraphs (g) and (h)(1) through (h)(3) of this AD. If paragraphs (g), (h)(1), and (h)(2) of this AD have already been done before the effective date of this AD, then only paragraph (h)(3) of this AD applies.

(g) Determine Number of Affected Pitot Probes Installed

Within 30 days after the effective date of this AD, inspect the airplane to determine the number of pitot probes identified in paragraph (c)(1) of this AD that are installed on the airplane.

(h) Replace Affected Pitot Probes

(1) After the inspection required in paragraph (g) of this AD, if it is determined that more than one pitot probe identified in paragraph (c)(1) of this AD is installed on the airplane, within the next 2 months after the effective date of this AD, replace the pitot probes that are listed with pitot probes that do not have a serial number listed in paragraph (c)(1) of this AD so that no more than one pitot probe identified in paragraph (c)(1) is installed on any aircraft simultaneously.

(2) After the inspection required in paragraph (g) of this AD, if it is determined that no more than one pitot probe identified in paragraph (c)(1) of this AD is installed on the airplane, no further action is required except for the ongoing requirement in paragraph (h)(3) of this AD.

(3) As of the effective date of this, do not install on any airplane a pitot probe having a serial number listed in paragraph (c)(1) of this AD, unless it has been repaired by CSI and has a date of August 1, 2014, or later.

(i) Alternative Methods of Compliance (AMOCs)

(1) The Manager, Fort Worth Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(j) Related Information

For more information about this AD, contact Jonathan Kim, Aerospace Engineer, Fort Worth ACO, FAA, 10101 Hillwood Parkway, Fort Worth, Texas 76177-1524; telephone: (817) 222-5131; fax: (817) 222-5245; email: jonathan.kim@faa.gov.

Issued in Kansas City, Missouri, on May 4, 2016.
David R. Showers,
Acting Manager, Small Airplane Directorate, Aircraft Certification Service.

[FR Doc. 2016-10930 Filed 5-10-16; 8:45 am]

BILLING CODE 4910-13-P